DEPARTMENT OF HOMELAND SECURITY

Federal Emergency Management Agency

[Docket ID FEMA-2024-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP).

DATES: The date of July 31, 2024 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Deputy Assistant Administrator for Risk Management, Federal Emergency Management Agency, Department of Homeland Security.

Community | Community map repository address
Sonoma County, California and Incorporated Areas
Docket No.: FEMA-B-2328
City of Santa Rosa | Engineering Division, City Hall, 100 Santa Rosa Avenue, Santa Rosa, CA 95404.
Town of Windsor | Civic Center, Building 400, 9291 Old Redwood Highway, Windsor, CA 95492.
Unincorporated Areas of Sonoma County | Sonoma County Permit & Resource Management, 2550 Ventura Avenue, Santa Rosa, CA 95403.
Broward County, Florida and Incorporated Areas
Docket No.: FEMA-B-2163
City of Coconut Creek | Utilities and Engineering Building, 5295 Johnson Road, Coconut Creek, FL 33073.
City of Cooper City | Building Department, 9090 Southwest 50th Place, Cooper City, FL 33328.
City of Dania Beach | City Hall, 100 West Dania Beach Boulevard, Dania Beach, FL 33004.
City of Deerfield Beach | Engineering Department, 200 Goolsby Boulevard, Deerfield Beach, FL 33442.
City of Fort Lauderdale | Department of Sustainable Development, 700 Northwest 19th Avenue, Fort Lauderdale, FL 33311.
City of Hallandale Beach | Public Works Department, 630 Northwest 2nd Street, Hallandale Beach, FL 33009.
City of Hollywood | Public Utilities Department, 1621 North 14th Avenue, Hollywood, FL 33022.
City of Lauderdale Lakes | Development Services Department, 3521 Northwest 43rd Avenue, Lauderdale Lakes, FL 33319.
City of Lauderhill | Fire Rescue Department, 1980 Northwest 56th Avenue, Lauderhill, FL 33313.
City of Lighthouse Point | Public Works Department, 4730 Northeast 21st Terrace, Lighthouse Point, FL 33064.
City of Margate | Department of Environmental and Engineering Services, 901 Northwest 66th Avenue, Suite A, Margate, FL 33063.
City of Miramar | Building Planning and Zoning, 2200 Civic Center Place, Miramar, FL 33025.
City of Oakland Park | Planning and Zoning Division, 5399 North Dixie Highway, Suite 3, Oakland Park, FL 33334.
City of Pembroke Pines | Engineering Division, 8300 South Palm Drive, Pembroke Pines, FL 33025.
City of Plantation | Engineering Department, 401 Northwest 70th Terrace, Plantation, FL 33317.
City of Pompano Beach | Building Department, 100 West Atlantic Boulevard, 3rd Floor, Pompano Beach, FL 33060.
City of Sunrise | Engineering Department, 10770 West Oakland Park Boulevard, Sunrise, FL 33351.
City of Tamarac | Public Works and Engineering Building Department, 6011 Nob Hill Road, 1st Floor, Tamarac, FL 33321.
City of West Park | City Hall, 1965 South State Road 7, West Park, FL 33023.
City of Weston | Public Works Department, 2599 South Post Road, Weston, FL 33327.
City of Wilton Manors | Community Development Services, 2020 Wilton Drive, 2nd Floor, Wilton Manors, FL 33305.
Seminole Tribe of Florida | Seminole Tribe of Florida Headquarters, 6300 Stirling Road, Hollywood, FL 33024.
Town of Davie | Building and Zoning Division, 8800 Southwest 36th Street, Davie, FL 33328.
Town of Hillsboro Beach | Town Hall, 1210 Hillsboro Mile, Hillsboro Beach, FL 33062.
Town of Lauderdale-By-The-Sea | Public Works Department, 4501 North Ocean Drive, Lauderdale-By-The-Sea, FL 33308.
Town of Pembroke Park | Engineering Department, 3150 Southwest 52nd Avenue, Pembroke Park, FL 33023.
Town of Southwest Ranches | Public Works Department, 13400 Griffin Road, Southwest Ranches, FL 33330.
Unincorporated Areas of Broward County | Broward County Government Center West, 1 North University Drive, Plantation, FL 33324.
Village of Lazy Lake | Village Hall, 2250 Lazy Lane, Lazy Lake, FL 33305.
Village of Sea Ranch Lakes | Village Hall, 1 Gatehouse Road, Sea Ranch Lakes, FL 33308.
Daviess County, Kentucky and Incorporated Areas
Docket Nos.: FEMA-B-2289 and FEMA-B-2325
City of Owensboro | Planning Commission Building, 200 East 3rd Street, Suite 201, Owensboro, KY 42303.
Unincorporated Areas of Daviess County | Daviess County Courthouse, 212 Saint Ann Street, Room 202, Owensboro, KY 42303.
East Feliciana Parish, Louisiana and Incorporated Areas
Docket No.: FEMA-B-2275
Town of Jackson | Town Hall, 1610 Charter Street, Jackson, LA 70748.
Unincorporated Areas of East Feliciana Parish | East Feliciana Parish Police Jury Office, 12064 Marston Street, Clinton, LA 70722.
West Feliciana Parish, Louisiana and Incorporated Areas
Docket No.: FEMA-B-2275
Town of St. Francisville | Town Hall, 11936 Ferdinand Street, St. Francisville, LA 70775.
Unincorporated Ares of West Feliciana Parish | West Feliciana Parish Governmental Building, 5934 Commerce Street, St. Francisville, LA 70775.
Sullivan County, Tennessee and Incorporated Areas
Docket No.: FEMA-B-2310
City of Bristol | City Hall Annex, 104 8th Street, Bristol, TN 37620.
City of Kingsport | City Hall, 415 Broad Street, Kingsport, TN 37660.
Unincorporated Areas of Sullivan County | Sullivan County Planning and Zoning, 3425 Highway 126, Suite 101, Blountville, TN 37617.
Bay County, Michigan (All Jurisdictions)
Docket No.: FEMA-B-2331
Charter Township of Bangor | Bangor Charter Township Hall, 180 State Park Drive, Bay City, MI 48706.
Charter Township of Hampton | Hampton Hall, 801 West Center Road, Essexville, MI 48732.
Charter Township of Monitor | Monitor Township Hall, 2483 Midland Road, Bay City, MI 48706.
Charter Township of Portsmouth | Portsmouth Township Hall, 1711 West Cass Avenue Road, Bay City, MI 48708.
City of Bay City | City Hall, 301 Washington Avenue, Bay City, MI 48708.
City of Essexville | City Hall, 1107 Woodside Avenue, Essexville, MI 48732.
City of Pinconning | City Hall, 208 Manitou Street, Pinconning, MI 48650.
Township of Frankenlust | Frankenlust Township Hall, 2401 Delta Road, Bay City, MI 48706.
Township of Fraser | Fraser Township Hall, 1474 North Mackinaw, Linwood, MI 48634.
Township of Kawkawlin | Township Hall, 1836 East Parish Road, Kawkawlin, MI 48631.
Township of Merritt | Merritt Township Community Hall, 48 East Munger Road, Munger, MI 48747.
Township of Pinconning | Township Hall, 1751 East Cody Estey Road, Pinconning, MI 48650.
Kalamazoo County, Michigan (All Jurisdictions)
Docket No.: FEMA-B-2192 and FEMA-B-2249
Charter Township of Comstock | Comstock Township Offices, 6138 King Highway, Kalamazoo, MI 49048.
Charter Township of Cooper | Cooper Township Offices, 1590 D Avenue West, Kalamazoo, MI 49009.
Charter Township of Kalamazoo | Township Hall, 1720 Riverview Drive, Kalamazoo, MI 49004.
Charter Township of Texas | Texas Township Hall, 7110 West Q Avenue, Kalamazoo, MI 49009.
City of Galesburg | City Hall, 200 East Michigan Avenue, Galesburg, MI 49053.
City of Kalamazoo | City Hall, 241 West South Street, Kalamazoo, MI 49007.
City of Parchment | City Hall, 650 South Riverview Drive, Parchment, MI 49004.
City of Portage | City Hall, 7900 South Westnedge Avenue, Portage, MI 49002.
Township of Brady | Brady Town Hall, 13123 South 24th Street, Vicksburg, MI 49097.
Township of Charleston | Charleston Township Hall, 1499 South 38th Street, Galesburg, MI 49053.
Township of Climax | Township Hall, 110 North Main Street, Climax, MI 49034.
Township of Prairie Ronde | Prairie Ronde Township Hall, 14050 South 6th Street, Schoolcraft, MI 49087.
Township of Richland | Township Offices, 7401 North 32nd Street, Richland, MI 49083.
Township of Ross | Ross Township Offices, 12086 East M-89, Richland, MI 49083.
Township of Schoolcraft | Schoolcraft Township Hall, 50 VW Avenue East, Vicksburg, MI 49097.
Village of Augusta | Village Hall, 109 West Clinton Street, Augusta, MI 49012.
Village of Vicksburg | Village Hall, 126 North Kalamazoo Avenue, Vicksburg, MI 49097.
Menominee County, Michigan (All Jurisdictions)
Docket No.: FEMA-B-2342
City of Menominee | City Hall, 2511 10th Street, Menominee, MI 49858.
Township of Cedarville | Cedarville Township Hall, N8235 Old Mill Lane Number 20.75, Cedar River, MI 49887.
Township of Ingallston | Ingallston Township Hall, W3790 Town Hall Lane Number 13.5, Wallace, MI 49893.
Township of Menominee | Township Hall, N2283 O-1 Drive, Menominee, MI 49858.
Morrison County, Minnesota and Incorporated Areas
Docket No.: FEMA-B-2323
City of Bowlus | City Hall, 212 Main Street, Bowlus, MN 56314.
City of Buckman | Buckman City Hall, 27031 Park Street, Pierz, MN 56364.
City of Elmdale | Elmdale City Community Center, 8197 State Highway 238, Bowlus, MN 56314.
City of Genola | Genola City Office, 13883 Highway 25, Pierz, MN 56364.
City of Harding | Harding Community Center, 24599 Quest Road, Pierz, MN 56364.
City of Lastrup | City Hall, 19201 285th Avenue, Lastrup, MN 56344.
City of Little Falls | City Hall, 100 Northeast 7th Avenue, Little Falls, MN 56345.
City of Motley | City Hall, 316 Highway 10 South, Motley, MN 56466.
City of Pierz | City Hall, 101 Main Street South, Pierz, MN 56364.
City of Randall | City Hall, 525 Pacific Avenue, Randall, MN 56475.
City of Royalton | City Hall, 12 North Birch Street, Royalton, MN 56373.
City of Sobieski | Sobieski City Clerk's Office, 11761 92nd Avenue, Little Falls, MN 56345.
City of Swanville | City Hall, 305 DeGraff Avenue, Swanville, MN 56382.
City of Upsala | City Hall, 320 Walnut Avenue, Upsala, MN 56384.
Unincorporated Areas of Morrison County | Morrison County Government Center, 2131st Avenue Southeast, Little Falls, MN 56345.
Monroe County, New York (All Jurisdictions)
Docket No.: FEMA-B-2301
City of Rochester | City Hall, 30 Church Street, Rochester, NY 14614.
Town of Brighton | Brighton Town Hall, Public Works Department, 2300 Elmwood Avenue, Rochester, NY 14618.
Town of Greece | Town Hall, 1 Vince Tofany Boulevard, Greece, NY 14612.
Town of Hamlin | Town Hall, 1658 Lake Road, Hamlin, NY 14464.
Town of Irondequoit | Irondequoit Town Hall, 1280 Titus Avenue, Rochester, NY 14617.
Town of Parma | Parma Town Hall, 1300 Hilton Parma Corners Road, Hilton, NY 14468.
Town of Penfield | Town Hall, 3100 Atlantic Avenue, Penfield, NY 14526.
Town of Webster | Town Hall, 1000 Ridge Road, Webster, NY 14580.
Licking County, Ohio and Incorporated Areas
Docket No.: FEMA-B-2339
City of Pataskala | City Hall, 621 West Broad Street, Pataskala, OH 43062.
City of Reynoldsburg | Municipal Building, 7232 East Main Street, Reynoldsburg, OH 43068.
Unincorporated Areas of Licking County | The Donald D. Hill County Administration Building, 20 South Second Street, Newark, OH 43055.
Columbia County, Pennsylvania (All Jurisdictions)
Docket No.: FEMA-B-2102 and FEMA-B-2293
Borough of Benton | Borough Office, 420 Airport Road, Benton, PA 17814.
Borough of Berwick | City Hall, 1800 North Market Street, Berwick, PA 18603.
Borough of Briar Creek | Briar Creek Borough Hall, 6029 Park Road, Berwick, PA 18603.
Borough of Catawissa | Borough Hall, 307 Main Street, Catawissa, PA 17820.
Borough of Millville | Borough Office, 136 Morehead Avenue, Millville, PA 17846.
Borough of Orangeville | Borough Building, 301 Mill Street, Orangeville, PA 17859.
Borough of Stillwater | Borough Hall, 63 McHenry Street, Stillwater, PA 17878.
Town of Bloomsburg | Town Hall, 301 East 2nd Street, Bloomsburg, PA 17815.
Township of Beaver | Beaver Township Secretary, 650 Beaver Valley Road, Bloomsburg, PA 17815.
Township of Benton | Township Building, 236 Shickshinny Road, Benton, PA 17814.
Township of Briar Creek | Briar Creek Township Municipal Building, 150 Municipal Road, Berwick, PA 18603.
Township of Catawissa | Township Building, 153 Old Reading Road, Catawissa, PA 17820.
Township of Cleveland | Cleveland Township Building, 46 Jefferson Road, Elysburg, PA 17824.
Township of Conyngham | Conyngham Township Building, 209 Smith Street, Wilburton, PA 17888.
Township of Fishing Creek | Fishing Creek Township Building, 3188 State Route 487, Orangeville, PA 17859.
Township of Franklin | Franklin Township Building, 313 Mount Zion Road, Catawissa, PA 17820.
Township of Greenwood | Greenwood Township Building, 90 Shed Road, Millville, PA 17846.
Township of Hemlock | Hemlock Township Building, 26 Firehall Road, Bloomsburg, PA 17815.
Township of Jackson | Jackson Municipal Building, 862 Waller-Divide Road, Benton, PA 17814.
Township of Locust | Locust Municipal Building, 1223A Numidia Drive, Catawissa, PA 17820.
Township of Madison | Madison Township Office, 136 Morehead Avenue, Millville, PA 17846.
Township of Main | Main Township Office, 345 Church Road, Bloomsburg, PA 17815.
Township of Mifflin | Mifflin Township Building, 201 East 1st Street, Mifflinville, PA 18631.
Township of Montour | Montour Township Office, 296 Jackson Street, Bloomsburg, PA 17815.
Township of Mount Pleasant | Mount Pleasant Community Center, 558 Millertown Road, Bloomsburg, PA 17815.
Township of North Centre | North Centre Township Building, 1059 State Route 93, Berwick, PA 18603.
Township of Orange | Orange Municipal Building, 2028 State Route 487, Orangeville, PA 17859.
Township of Pine | Pine Township Building, 309 Wintersteen School Road, Millville, PA 17846.
Township of Roaring Creek | Roaring Creek Township Secretary Building, 28 Brass School Road, Catawissa, PA 17820.
Township of Scott | Scott Municipal Building, 350 Tenny Street, Bloomsburg, PA 17815.
Township of South Centre | South Centre Municipal Building, 6260 4th Street, Bloomsburg, PA 17815.
Township of Sugarloaf | Sugarloaf Municipal Building, 90 Schoolhouse Road, Benton, PA 17814.
Ozaukee County, Wisconsin and Incorporated Areas
Docket No.: FEMA-B-2277
City of Cedarburg | City Hall, W63N645 Washington Avenue, Cedarburg, WI 53012.
City of Mequon | City Hall, 11333 North Cedarburg Road, Mequon, WI 53092.
City of Port Washington | City Hall, 100 West Grand Avenue, Port Washington, WI 53074.
Unincorporated Areas of Ozaukee County | Administration Building, 121 West Main Street, Port Washington, WI 53074.
Village of Bayside | Village Hall, 9075 North Regent Road, Bayside, WI 53217.
Village of Belgium | Village Hall, 104 Peter Thein Avenue, Belgium, WI 53004.
Village of Fredonia | Village Hall, 242 Fredonia Avenue, Fredonia, WI 53021.
Village of Grafton | Village Hall, 860 Badger Circle, Grafton, WI 53024.
Village of Newburg | Village Hall, 620 West Main Street, Newburg, WI 53060.
Village of Saukville | Village Hall, 639 East Green Bay Avenue, Saukville, WI 53080.
Village of Thiensville | Village Hall, 250 Elm Street, Thiensville, WI 53092.

[FR Doc. 2024-06781 Filed 3-29-24; 8:45 am]

BILLING CODE 9110-12-P